FEDERAL COMMUNICATIONS COMMISSION

47 CFR Parts 61 and 69

[CC Docket Nos. 96-262, 94-1, 91-213, 95-72; DA 03-3961]

Parties Asked To Refresh Record Regarding Reconsideration of Rules Adopted in 1997 Access Reform Docket

AGENCY: Federal Communications Commission.

ACTION: Proposed rule.

SUMMARY: In this document, the Commission invites interested parties to update the record concerning petitions for reconsideration of rules that the Commission adopted in the 1997 access charge reform docket. Because the petitions for reconsideration were filed several years ago, passage of time and intervening developments may have caused the record developed by those petitions to become stale. If parties do not indicate an intent to pursue previous petitions for reconsideration, the Commission will deem them withdrawn and will dismiss them.

DATES: Comments are due on or before February 17, 2004, and reply comments are due on or before March 1, 2004.

ADDRESSES: Federal Communications Commission, 445 12th Street, SW., Washington, DC 20554. See SUPPLEMENTARY INFORMATION for filing instructions.

FOR FURTHER INFORMATION CONTACT: Marvin F. Sacks, Attorney-Advisor, Wireline Competition Bureau, Pricing Policy Division, (202) 418-1520 or via the Internet at marvin.sacks@fcc.gov.

SUPPLEMENTARY INFORMATION: Below is a summary of the Commission's document in CC Docket Nos. 96-262, 94-1, 91-213, and 95-72 adopted December 15, 2003, and released December 15, 2003. When filing comments and reply comments, parties should reference CC Docket Nos. 96-262, 94-1, 91-213, and 95-72, and conform to the filing procedures contained in the Notice. All pleadings may be filed using the Commission's Electronic Comment Filing System (ECFS) or by filing paper copies. Comments filed through the ECFS can be sent as an electronic file via the Internet to http://www.fcc.gov/cgb/ecfs. Commenters must transmit one electronic copy of the comments to each docket number referenced in the caption. In completing the transmittal screen, commenters should include their full name, U.S. Postal Service mailing address, and the applicable docket number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket number appears in the caption of this proceeding, commenters must submit two additional copies for each additional docket number. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. The Commission advises that electronic media not be sent through USPS. All filings must be addressed to the Commission's Secretary, Office of the Secretary, Federal Communications Commission, 445 12th Street, SW., Suite TW-A325, Washington, DC 20554. Two (2) copies of the comments and reply comments should also be sent to Aaron Goldschmidt, Assistant Division Chief, Pricing Policy Division, Wireline Competition Bureau, Federal Communications Commission, 445 12th Street, SW., Room 5-A121, Washington, DC 20554. Parties shall also serve one copy with Qualex International, Portals II, 445 12th Street, SW., Room CY-B402, Washington, DC 20554, (202) 863-2893, or via e-mail to qualexint@aol.com. The original petitions for reconsideration filed by the parties in CC Docket Nos. 96-262, 94-1, 91-213, and 95-72 are available for public inspection and copying during business hours at the FCC Reference Information Center, Portals II, 445 12th Street, SW., Room CY-A257, Washington, DC 20554. The documents may also be purchased from Qualex International, telephone (202) 863-2893, facsimile (202) 863-2898. This document may also be purchased from Qualex International and is available via the Internet at http://hraunfoss.fcc.gov/edocs_public/attachmatch/DA-03-3961A1.pdf

Synopsis

1. After the Commission released the Access Charge Reform First Report and Order on May 16, 1997, published at 62 FR 31868 (June 11, 1997) in CC Docket Nos. 96-262, 94-1, 91-213, and 95-72, FCC 97-158, several parties filed petitions for reconsideration of that order. Since then, litigation and additional orders, including the Access Charge Reform Sixth Report and Order (CALLS Order), 65 FR 57739 (September 26, 2000), have addressed access charge reform and the rules adopted in the Access Charge Reform First Report and Order. Issues raised in the pending petitions for reconsideration may, therefore, have become moot or irrelevant.

2. As a result, it is not clear what issues arising out of the Access Charge Reform First Report and Order, if any, remain in dispute. Moreover, because the CALLS Order arose out of a voluntary proposal representing a large consensus in the industry, the earlier concerns raised by the petitions for reconsideration already may have been addressed. Furthermore, because the petitions for reconsideration were filed several years ago, the passage of time and intervening developments may have caused the record developed by those petitions to become stale.

3. For these reasons, the Commission requests that parties that filed petitions for reconsideration of the Access Charge Reform First Report and Order now file a supplemental notice indicating those issues that they still wish to be reconsidered. In addition, these parties may refresh the record with any new information or arguments that they believe to be relevant to deciding those issues. If parties do not indicate an intent to pursue previous petitions for reconsideration, the Commission will deem them withdrawn and will dismiss them. The refreshed record will enable the Commission to undertake appropriate reconsideration of its access charge related rules.

Federal Communications Commission.
Aaron Goldschmidt,
Assistant Division Chief, Pricing Policy Division, Wireline Competition Bureau.

[FR Doc. 04-903 Filed 1-15-04; 8:45 am]

BILLING CODE 6712-01-P